DEPARTMENT OF AGRICULTURE

Forest Service

Fishel Vegetation and Transportation Management Project; Chequamegon-Nicolet National Forest, Vilas and Forest Counties, WI

AGENCY: Forest Service, USDA.

ACTION: Notice of intent to prepare Environmental Impact Statement.

Authority: The National Environmental Policy Act of 1969 (NEPA), as amended (42 U.S.C. 4321-4346); Council on Environmental quality Regulations, title 40, Code of Federal Regulations, parts 1500-1508 (40 CFR parts 1500-1508); and U.S. Department of Agriculture NEPA Regulations, part 1b (7 CFR part 1b).

SUMMARY: The Forest Service will prepare an Environmental Impact Statement (EIS) to document the analysis and disclose the environmental impacts of proposed actions to harvest trees and associated transportation management activities.

The purpose and need identified for the Fishel project area is to: Improve structural diversity (age/size class) and species diversity in the northern hardwood interior block habitats and maintain forest composition while improving riparian habitat, contributing toward satisfying demand for timber products, and to provide an efficient road system that will meet long-term transportation needs to move the Fishel project area towards the desired conditions as described in the 2004 Forest Plan.

Actions are proposed to meet or move towards meeting Forest Plan goals 1.1, 1.2, 1.4, 2.5, 3.1, as well as meet Forest Plan objectives through design features and treatment mitigation.

The project area is located on public lands administered by the Eagle River-Florence Ranger District approximately 30 miles northeast of Rhinelander, Wisconsin. It is located approximately 10 miles northeast of Eagle River, bordered on the west and north by Big Sand Lake and the Michigan border, on the east by State highway 55 and on the south by State Highway 70.

No Action is one alternative that will be considered. Additional alternatives will be formulated based on public issues, and response analysis. The proposed action involves harvesting approximately 16.9 MMBF (million board feet) of green trees from approximately 5,517 acres within an analysis area of about 35,200 acres. Harvest of trees would be by ground based (tractor) methods during the winter months. Most harvested areas would be open to natural regeneration with some areas planted to longer lived white pine near trout streams, and jack pine for age class diversity.

Road work would include construction of 2.1 miles of new road and 23.7 miles of road reconstruction to access harvest activity stands. The transportation management proposal includes construction of 2.1 miles of new road, 23.7 miles of road reconstruction and 44.6 miles of road decommissioning to move towards the road densities identified in the Forest Plan. After the project is completed, approximately 107 miles of existing Forest Service Roads are proposed to remain open and be maintained.

DATES: Written comments concerning the scope of the analysis described in this notice should be received within 45 days of the date of publication of this notice in the Federal Register.

ADDRESSES: Send written comments to Chequamegon-Nicolet National Forest, Deputy Forest Supervisor Jeanne Higgins, c/o Lois Pfeffer, 145 East 2nd Street, Powell, WY 82453.

FOR FURTHER INFORMATION CONTACT: Questions concerning the proposed action and EIS should be addressed to Lois Pfeffer, Forester, TEAMS Planning, phone (550) 359-7023.

SUPPLEMENTARY INFORMATION: This EIS will tier to the 2004 FEIS for the Chequamegon-Nicolet National Forest Land and Resource Management Plan (Forest Plan). The Chequamegon-Nicolet Forest Plan provides the overall guidance (Goals, Objectives, Standards, and Management Area Direction) to achieve the Desired Future Condition for the area being analyzed, and contains specific management area prescriptions for the entire Forest.

The Forest Service is seeking information and comments from Federal, State, and local agencies as well as individuals and organizations that may be interested in, or affected by the proposed action. The Forest Services invites written comments and suggestions on the issues related to the proposal and the area being analyzed. Information received will be used in preparation of the Draft EIS and Final EIS. For most effective use, comments should be submitted to the Forest Service within 45 days from the date of publication of this in the Federal Register.

The Eagle River-Florence Ranger District of the Chequamegon-Nicolet National Forest in Forest and Vilas Counties in the state of Wisconsin would administer the proposed management activities for this analysis. Agency representatives and other interested people are invited to visit with Forest Service officials at any time during the EIS process. Two specific time periods are identified for the receipt of formal comments on the analysis. The two comment periods are: (1) During the scoping process, the next 45 days following publication of this notice in the Federal Register, and (2) during the formal review period of the Draft EIS.

The comment period on the draft environmental impact statement will be 45 days from the date the Environmental Protection Agency publishes the notice of availability in the Federal Register. The Forest Service believes it is important to give reviewers notice at this early stage of several court rulings related to public participation in the environmental review process. First, reviewers of draft environmental impact statements must structure their participation in the environmental review of the proposal so that it is meaningful and alerts an agency to the reviewers' position and intentions.

Vermont Yankee Nuclear Power Corp. v. NRDC, 435 U.S. 519,553 (1978). Also, environmental objections that could be raised at the draft environmental impact statement stage but that are not raised until after completion of the final environmental impact statement may be waved or dismissed by the courts.

City of Angoon v. Hodel, 803 F. 2d 1016, 1022 (9th Circuit, 1986) and Wisconsin Heritages, Inc. v. Harris, 490 F. Supp. 1334, 1338 (E.D. Wis 1980). Because of these court rulings, it is very important that those interested in this proposed action participate by the close 45-day comment period so that substantive comments and objections are made available to the Forest Service at a time when it can meaningfully consider them and respond to them in the final Environmental Impact Statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National environmental Policy Act, 40 CFR 1503.3 in addressing these points.

It is projected the final release of the EIS to be November 30, 2006. The Forest Supervisor or Deputy Forest Supervisor for the Chequamegon-Nicolet National Forest are the responsible officials for the EIS. After considering the comments, responses, and environmental consequences discussed in the Final Environmental Impact Statement, and applicable laws, regulations, and policies a decision by this official will be made regarding the proposal. The reasons for the decision will be documented in a Record of Decision. The Forest Supervisor's office of the Chequamegon-Nicolet National Forest is located at 1170 4th Avenue South, Park Falls, WI 54552, phone: 715-762-2461.

Dated: March 16, 2006.
Jeanne M. Higgins,
Deputy Forest Supervisor, Chequamegon-Nicolet National Forest.

[FR Doc. 06-2762 Filed 3-21-06; 8:45 am]

BILLING CODE 3410-11-M